GENERAL SERVICES ADMINISTRATION

President's Homeland Security Advisory Council

AGENCY: Office of Governmentwide Policy, General Services Administration.

ACTION: Notice of Federal Advisory Committee meeting.

SUMMARY: The President's Homeland Security Advisory Council (PHSAC or Council) will meet in closed session on Tuesday, July 2, 2002, in Washington, DC. The PHSAC will meet to receive law enforcement and intelligence briefings by senior government officials related to homeland security, and to review and discuss the draft national strategy for homeland security. Due to critical mission and schedule requirements, there is insufficient time to provide the full 15 calendar days notice in the Federal Register prior to this meeting, pursuant to the final rule on Federal Advisory Committee Management codified at 41 CFR 102-3.150.

Objectives

The President's Homeland Security Advisory Council was established by Executive Order 13260 (67 FR 13241, March 21, 2002). The objectives of the PHSAC are to provide advice and recommendations to the President of the United States through the Assistant to the President for Homeland Security on matters relating to homeland security.

Basis for Closed Meeting

In accordance with Section 10(d) of the Federal Advisory Committee Act, Public Law 92-463, as amended (5 U.S.C. App.), it has been determined that this PHSAC meeting concerns matters sensitive to homeland security within the meaning of 5 U.S.C. 552b(c)(7) and (9)(B) and that, accordingly, the meeting will be closed to the public.

Public Comments

Members of the public who wish to file a written statement with the PHSAC may do so by mail to Mr. Fred Butterfield at the following address: President's Homeland Security Advisory Council, U.S. General Services Administration (GSA/MC, Room G230), 1800 F St., NW., Washington, DC 20405. Comments may also be sent to Fred Butterfield by e-mail at fred.butterfield@gsa.gov, or by facsimile (FAX) to (202) 273-3559.

Dated: June 24, 2002.
James L. Dean,
Director, Committee Management Secretariat, Office of Governmentwide Policy, General Services Administration.

[FR Doc. 02-16289 Filed 6-25-02; 8:45 am]

BILLING CODE 6820-34-P